DEPARTMENT OF EDUCATION

[Docket No. ED-2019-ICCD-0054]

Agency Information Collection Activities; Submission to the Office of Management and Budget for Review and Approval; Comment Request; Application for Grants Under the Strengthening Institutions Program, CFDA# 84.031A & 84.031F

AGENCY: Office of Postsecondary Education (OPE), Department of Education (ED).

ACTION: Notice.

SUMMARY: In accordance with the Paperwork Reduction Act of 1995, ED is proposing a reinstatement of a previously approved information collection.

DATES: Interested persons are invited to submit comments on or before June 3, 2019.

ADDRESSES: To access and review all the documents related to the information collection listed in this notice, please use http://www.regulations.gov by searching the Docket ID number ED-2019-ICCD-0054. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Information Collection Clearance Division, U.S. Department of Education, 550 12th Street SW, PCP, Room 9086, Washington, DC 20202-0023.

FOR FURTHER INFORMATION CONTACT: For specific questions related to collection activities, please contact Nalina Lamba-Nieves, 202-453-7953.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application for grants under the Strengthening Institutions Program, CFDA# 84.031A & 84.031F.

OMB Control Number: 1840-0114.

Type of Review: A reinstatement of a previously approved information collection.

Respondents/Affected Public: Private Sector.

Total Estimated Number of Annual Responses: 590.

Total Estimated Number of Annual Burden Hours: 38,350.

Abstract: This collection is the application booklet for the Strengthening Institutions Program (SIP), CFDA# 84.031A & 84.031F. SIP provides grants to eligible institutions of higher education (IHEs) to improve their academic programs, institutional management, and fiscal stability to increase their self-sufficiency and strengthen their capacity. Funding is targeted to institutions that enroll a large proportion of financially disadvantaged students and have low per-student expenditures. Section 311(b) and Section 391(a)(1) of Title III, Part A of the Higher Education Act of 1965, as amended (HEA), 20 US Code § 1057 and the governing regulations (34 CFR 607.1-607.31) require collection of the information identified in the application package, in order to make awards.

Dated: April 30, 2019.
Kate Mullan,
PRA Coordinator, Information Collection Clearance Program, Information Management Branch, Office of the Chief Information Officer.

[FR Doc. 2019-09117 Filed 5-2-19; 8:45 am]

BILLING CODE 4000-01-P